COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds service(s) to the Procurement List that will be furnished by nonprofit agencies employing persons who are blind or have other severe disabilities, and deletes product(s) from the Procurement List previously furnished by such agencies.

DATES: Date added to and deleted from the Procurement List: June 20, 2021.

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Additions

On 1/15/201 and 2/5/2021, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Base Supply Center

Mandatory for: Sierra Army Depot, Herlong CA

Designated Source of Supply: South Texas Lighthouse for the Blind, Corpus Christi, TX

Contracting Activity: DEPT OF THE ARMY, W6QK SIAD CONTR OFF

Service Type: Laundry Service

Mandatory for: U.S. Army, Alabama Army National Guard, Montgomery, AL

Designated Source of Supply: Wiregrass Rehabilitation Center, Inc., Dothan, AL

Contracting Activity: DEPT OF THE ARMY, W7MT USPFO ACTIVITY AL ARNG

The Committee finds good cause to dispense with the 30-day delay in the effective date normally required by the Administrative Procedure Act. See 5 U.S.C. 553(d). This addition to the Committee's Procurement List is effectuated because of the expiration of the Department of the Army Laundry Service contract. The Federal customer contacted, and has worked diligently with the AbilityOne Program to fulfill this service need under the AbilityOne Program. To avoid performance disruption, and the possibility that the Department of the Army will refer its business elsewhere, this addition must be effective on June 15, 2021, ensuring timely execution for a June 16, 2021, start date while still allowing 25 days for comment. The Committee also published a notice of proposed Procurement List addition in the Federal Register on January 15, 2021, and did not receive any comments from any interested persons including from the incumbent contractor who in this case, is the nonprofit agency designated by the Commission for this project. This addition will not create a public hardship and has limited effect on the public at large, but, rather, will create new jobs for other affected parties—people with significant disabilities in the AbilityOne program who otherwise face challenges locating employment. Moreover, this addition will enable Federal customer operations to continue without interruption.

Service Type: Grounds Maintenance

Mandatory for: Federal Aviation Administration, Covington Air Traffic Control Tower (CVG ATCT), Erlanger, KY and Covington VHF Omni-Range Tactical Air Navigation (VORTAC), Burlington, KY

Designated Source of Supply: Greater Cincinnati Behavioral Health Services, Cincinnati, OH

Contracting Activity: FEDERAL AVIATION ADMINISTRATION, 697DCK REGIONAL ACQUISITIONS SVCS

The Committee finds good cause to dispense with the 30-day delay in the effective date normally required by the Administrative Procedure Act. See 5 U.S.C. 553(d). This addition to the Committee's Procurement List is effectuated because of the expiration of the Federal Aviation Administration's contract. The Federal customer contacted, and has worked diligently with, the AbilityOne Program to fulfill this service need under the AbilityOne Program. To avoid performance disruption, and the possibility that the Federal Aviation Administration will refer its business elsewhere, this addition must be effective on May 31, 2021, ensuring timely execution for a June 1, 2021, start date while still allowing 10 days for comment. The Committee also published a notice of proposed Procurement List addition in the Federal Register on February 5, 2021, and did not receive any comments from any interested persons, including from the incumbent contractor. This addition will not create a public hardship and has limited effect on the public at large, but, rather, will create new jobs for other affected parties—people with significant disabilities in the AbilityOne Program who otherwise face challenges locating employment. Moreover, this addition will enable Federal customer operations to continue without interruption.

Deletions

On 4/16/2021, the Committee for Purchase From People Who Are Blind or Severely Disabled published notice of proposed deletions from the Procurement List. This notice is published pursuant to 41 U.S.C. 8503 (a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) are deleted from the Procurement List:

Product(s)

NSN(s)—Product Name(s): 5855-01-334-6594—Harness, Night Vision

Designated Source of Supply: Cambria County Association for the Blind and Handicapped, Johnstown, PA

Contracting Activity: DLA AVIATION, RICHMOND, VA

NSN(s)—Product Name(s): 5330-01-134-7893—Insulation

Designated Source of Supply: Huntsville Rehabilitation Foundation, Huntsville, AL

Contracting Activity: DLA TROOP SUPPORT, PHILADELPHIA, PA

NSN(s)—Product Name(s): 9905-00-NSH-0236—Sorter, T Card

Designated Source of Supply: Challenge Enterprises of North Florida, Inc., Green Cove Springs, FL

Contracting Activity: FA-NATIONAL INTERAGENCY FIRE CENTER, BOISE, ID

Michael R. Jurkowski,
Deputy Director, Business Operations.

[FR Doc. 2021-10802 Filed 5-20-21; 8:45 am]

BILLING CODE 6353-01-P